DEPARTMENT OF HOMELAND SECURITY

U.S. Customs and Border Protection

Revocation of AmSpec LLC (Christiansted, St. Croix, USVI)

as a Customs-Accredited Laboratory and Customs-Approved Gauger

AGENCY: U.S. Customs and Border Protection, Department of Homeland Security.

ACTION: General notice of revocation of AmSpec LLC (Christiansted, St. Croix, USVI) as a Customs-accredited laboratory and Customs-approved gauger.

SUMMARY: Notice is hereby given, pursuant to the U.S. Customs and Border Protection (CBP) regulations, that CBP has revoked the accreditation and approval for AmSpec LLC's Christiansted, St. Croix, USVI, laboratory and gauging facility to test petroleum and petroleum products for customs purposes and to gauge petroleum and petroleum products for customs purposes.

DATES: The effective date of revocation is October 24, 2024.

FOR FURTHER INFORMATION CONTACT: Dr. Eugene Bondoc, Laboratories and Scientific Services, U.S. Customs and Border Protection, CB-03 Mail Stop #1110, Washington, DC 20229-1110, tel. 202-344-1060.

SUPPLEMENTARY INFORMATION: Notice is hereby given, in accordance with the provisions of Sections 151.12(k)(2)(i) and 151.13(i)(2)(i) of Title 19, Code of Federal Regulations (CFR), that CBP has revoked the accreditation and approval of the AmSpec, LLC laboratory and gauging facility at 9010 Estate Cottage, Suite 3, Christiansted, St. Croix, USVI 00820, to test petroleum and petroleum products and to gauge petroleum and petroleum products for customs purposes. The duration of the revocation of accreditation and approval is indefinite.

Inquiries regarding the entity's status as an approved gauger and/or as an accredited laboratory may be directed to CBP by calling (202) 344-1060 or by sending an email to CBPGaugersLabs@cbp.dhs.gov. Please reference the website listed below for a complete listing of CBP approved gaugers and accredited laboratories. http://www.cbp.gov/about/labs-scientific/commercial-gaugers-and-laboratories.

Dated: November 15, 2024.
Larry D. Fluty,
Assistant Commissioner, Laboratories and Scientific Services.

[FR Doc. 2024-27252 Filed 11-20-24; 8:45 am]

BILLING CODE 9111-14-P